DEPARTMENT OF LABOR

Agency Information Collection Activities; Submission for OMB Review; Comment Request; Registration Requirements To Serve as a Pooled Plan Provider to Pooled Employer Plans; Correction

ACTION: Notice of availability; correction.

SUMMARY: The Department of Labor (DOL) is correcting a notice that appeared in the Federal Register on October 17, 2023. DOL is correcting an error in the estimated burden hours, estimated number of respondents and the estimated number of responses. This is an Employee Benefits Security Administration (EBSA)-sponsored information collection request (ICR) to the Office of Management and Budget (OMB) for review and approval in accordance with the Paperwork Reduction Act of 1995 (PRA). Public comments on the ICR are invited.

DATES: The OMB will consider all written comments that the agency receives on or before December 26, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Michael Howell by telephone at 202-693-6782, or by email at DOL_PRA_PUBLIC@dol.gov.

SUPPLEMENTARY INFORMATION: The Setting Every Community Up for Retirement Enhancement Act of 2019 (the SECURE Act) was designed to improve retirement coverage as well as the ability of individuals to manage important retirement-related risks. Specifically, the Secure Act requires Section 101 of the SECURE Act requires a “pooled plan provider” to register with the Labor Department and the Treasury Department before beginning operations as a pooled plan provider. Specifically, Section 101 of the SECURE Act amends section 3(2) of the Employee Retirement Income Security Act (ERISA) to eliminate the commonality of interest requirement for establishing certain individual account plans, or “pooled employer plans,” that meet specific requirements. Among these requirements, plans must designate a “pooled plan provider” to serve as a named fiduciary and as the plan administrator. Further, section 101 of the SECURE Act requires pooled plan providers to register with the Department of Labor (the Department) and the Department of the Treasury (Treasury) before beginning operations. The statute expressly provides a separate authorization for the Department to require additional information. For additional substantive information about this ICR, see the related notice published in the Federal Register on February 8, 2023 (88 FR 8317).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-EBSA.

Title of Collection: Registration Requirements to Serve as a Pooled Plan Provider to Pooled Employer Plans.

OMB Control Number: 1210-0164.

Affected Public: Businesses or other for-profits.

Total Estimated Number of Respondents: 142.

Total Estimated Number of Responses: 142.

Total Estimated Annual Time Burden: 71 hours.

Total Estimated Annual Other Costs Burden: $0.

(Authority: 44 U.S.C. 3507(a)(1)(D))

Michael Howell,
Senior Paperwork Reduction Act Analyst.

[FR Doc. 2023-25910 Filed 11-22-23; 8:45 am]

BILLING CODE 4510-29-P